DEPARTMENT OF VETERANS AFFAIRS

Solicitation of Nominations for Appointment to the National Research Advisory Council

AGENCY: Department of Veterans Affairs.

ACTION: Notice of solicitation for nominations.

SUMMARY: The Department of Veteran Affairs (VA) Office of Research and Development (ORD) is committed to having a diverse and inclusive membership on its National Research Advisory Council (NRAC or the Council). The NRAC is seeking nominations for its 2024 membership cycle of qualified candidates who promote racial and ethnic diversity, as well as sex, geographic, religious, disability/mobility, and prior military service diversity in membership.

DATES: Nominations for membership on NRAC must be received by November 15, 2023 no later than 4 p.m., Eastern Standard Time. Submission of an application does not guarantee selection.

ADDRESSES: All nomination packages should be emailed to Rashelle Robinson: Rashelle.Robinson@va.gov.

FOR FURTHER INFORMATION CONTACT: Allison Williams ND Ph.D. RN at Allison.williams3@va.gov or 727.204.1903 A copy of NRAC charter and list of the current membership can also be obtained by contacting Dr. Williams.

SUPPLEMENTARY INFORMATION: The Council provides advice to the Secretary of Veterans Affairs (Secretary) and the Under Secretary for Health (USH) and makes recommendations on the nature and scope of research and development sponsored and/or conducted by the Veterans Health Administration (VHA) to include:

(1) the policies and projects of the Office of Research and Development (ORD);

(2) the focus of research on the high priority health care needs of Veterans;

(3) the balance of basic, applied, and outcomes research;

(4) the scientific merit review process;

(5) the appropriate mechanisms by which ORD can leverage its resources to enhance the research financial base;

(6) the rapid response to changing health care needs, while maintaining the stability of the research infrastructure; and

(7) the protection of human subjects of research.

Authority: NRAC was established by the directive of the Secretary of VA, in accordance with the provisions of the Federal Advisory Committee Act, as amended, 5 U.S.C. Ch. 10.

Membership Criteria and Qualification: The Council will be comprised of not more than 12 members. Members will be selected from knowledgeable VA- and non-VA experts, and Veterans' community representatives with special qualifications and competencies to deal effectively with research and development issues in the VA. Interested individuals must be a U.S. citizen and hold an M.D., Ph.D., or equivalent doctoral degree. NRAC is looking for individuals with primary expertise that includes:

a. basic biomedical research;

b. rehabilitation research and development;

c. health services research and development;

d. clinical research;

e. geriatric care;

f. primary care;

g. special Veterans population health issues;

h. occupational and environmental health research;

i. mental health and behavioral research; and

j. surgery.

In addition, the NRAC will have at least one Veteran as a member to ensure an important perspective on the health problems of Veterans.

Membership Requirements: NRAC meets three times a year either virtually, hybrid or in-person. Lobbyists serving as members of advisory boards and commissions or federally-registered lobbyists are prohibited from serving on Federal advisory committees in an individual capacity. In accordance with Federal Travel Regulation, VA will cover travel expenses—to include per diem—for all members of the Council, for any travel associated with official Council duties. Non-VA Council members also may be authorized to receive a stipend for their services.

To the extent possible, the Secretary seeks members who have diverse professional and personal qualifications including but not limited to subject matter experts in the areas described above. We ask that nominations include any relevant experience information so that VA can ensure diverse Council membership.

Requirements for Nomination Submission: Nominations should be 12-point font typed (one nomination per nominator). Self-nominations are acceptable. Nomination package should include:

(1) A cover letter that clearly states the name and affiliation of the nominee, the basis for the nomination (i.e., specific attributes that qualify the nominee for service in this capacity), and a statement from the nominee indicating the willingness to serve as a member of the Council;

(2) The nominee's contact information, including name, mailing address, telephone numbers, and email address;

(3) The nominee's curriculum vitae that shows all relevant professional, publications, Veterans service involvement and/or work experience;

(4) A summary of the nominee's experience and qualifications relative to the membership consideration described above; and

(5) A statement confirming that the nominee is not a federally-registered lobbyist.

Packages will be reviewed by ORD Leadership staff and individuals selected for appointment to the Council will be notified via email.

The Department makes every effort to ensure that the membership of VA Federal advisory committees is diverse in terms of points of view represented and the committee's capabilities. Appointments to this Council shall be made without discrimination because of a person's race, color, religion, sex, sexual orientation, gender identity, national origin, age, disability or genetic information. Nominations must state that the nominee is willing to serve as a member of the Council and appears to have no conflict of interest that would preclude membership. An ethics review is conducted for each selected nominee.

Dated: October 5, 2023.
LaTonya L. Small,
Federal Advisory Committee Management Officer.

[FR Doc. 2023-22522 Filed 10-11-23; 8:45 am]

BILLING CODE P